DEPARTMENT OF COMMERCE

National Oceanic and Atmospheric Administration

50 CFR Part 660

[I.D. 033001B]

Fisheries off the West Coast States and in the Western Pacific; Pacific Coast Groundfish Fishery; Intent to Prepare an Environmental Impact Statement (EIS) for Fishing Conducted Under the Pacific Coast Groundfish Fishery Management Plan (FMP).

AGENCY: National Marine Fisheries Service (NMFS), National Oceanic and Atmospheric Administration (NOAA), Commerce.

ACTION: Notice of intent to prepare an EIS; request for written comments.

SUMMARY: NOAA announces its intention to prepare an EIS, in accordance with the National Environmental Policy Act (NEPA), to assess the impacts of Federal management of the Pacific Coast groundfish fishery on the human environment. The scope of the EIS analysis will include issues related to the conduct of the fishery, including the effects of the groundfish fishery on essential fish habitat (EFH).

DATES: Written comments will be accepted on or before June 30, 2001. Public scoping meetings are scheduled for May 22-23, May 29-30, June 5 and June 12, 2001 (see SUPPLEMENTARY INFORMATION).

ADDRESSES: Written comments on suggested alternatives and potential impacts should be sent to Donna Darm, Acting Administrator, Northwest Region, NMFS, 7600 Sand Point Way N.E., BIN C15700, Bldg. 1, Seattle, WA 98115-0070. Comments also may be sent via facsimile (fax) to 206-526-6736. Comments will not be accepted if submitted via e-mail or Internet. See SUPPLEMENTARY INFORMATION for specific dates and times.

FOR FURTHER INFORMATION CONTACT: William L. Robinson, Northwest Region, NMFS, 206-526-6140; fax: 206-526-6736 and e-mail: bill.robinson@noaa.gov or Svein Fougner, Southwest Region, NMFS, 562-980-4000; fax: 562-980-4047 and e-mail: svein.fougner@ noaa.gov.

SUPPLEMENTARY INFORMATION:

Dates and Times for the Meetings

The following locations and times have been set for scoping meetings:

1. Oregon - Hatfield Marine Science Center, meeting Room 9, 2040 SE Marine Science Drive, Newport, OR, May 22, 2001, beginning at 7 p.m.;

2. Oregon - Oregon State University, Seafood Laboratory, 2021 Marine Drive, Astoria, OR, May 23, 2001, beginning at 7 p.m.;

3. California - Humboldt Bay Harbor, Recreation and Conservation District, Woodley Marina, 601 Startare Drive, Eureka, CA, May 29, 2001, beginning at 5 p.m.;

4. California - California Department of Fish and Game, 4665 Lampson Avenue, Los Alamitos, CA, May 30, 2001, beginning at 3 p.m.;

5. Washington - NMFS, 7600 Sand Point Way NE, Building 9, Seattle, WA, June 5, 2001, beginning at 7 p.m.; and

California - Park Plaza International Hotel, 1177 Airport Blvd., Burlingame, CA, June 12, 2001, beginning at 7 p.m.

There are 82 species managed under the Pacific Coast Groundfish FMP, seven of which have been declared overfished. The groundfish stocks support an array of commercial, recreational, and tribal fishing interests in state and Federal waters off the coasts of Washington, Oregon, and California. In addition, groundfish are also harvested incidentally in non-groundfish fisheries, most notably the trawl fisheries for pink shrimp, spot/ridgeback prawns, California halibut, and sea cucumber. To rebuild overfished species, restrictive management measures for most commercial and recreational fishing sectors have recently been adopted.

To define management issues and provide a clear basis for public comments, a summary of the current Federal management system for the Pacific Coast groundfish fishery will be reviewed during the public scoping hearings. A principal objective of the scoping and public input process is to identify a reasonable set of management alternatives that, with adequate analysis, will sharply define critical issues and provide a clear basis for choice among the alternatives. Therefore, the EIS will include a range of reasonable management alternatives and an analysis of their impacts.

The intent of the EIS is to present an overall picture of the environmental effects of fishing as conducted under the Pacific Coast Groundfish FMP. Alternatives will be analyzed for impacts on essential fish habitat, target and non-target species of fish, discarded fish, marine mammals, and other protected species present in the Pacific Coast ecosystem. In addition, the environmental consequences section of the EIS will contain an analysis of impacts from fishery management measures on the following groups of individuals: (1) those who participate in harvesting the fishery resources and other living marine resources; (2) those who process and market the fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

This EIS also responds to the U.S. District court's order in American Oceans Campaign v. Daley, No 99-982, (D.D.C. Order dated September 14, 2000), ordering NMFS to perform a new NEPA analysis on the EFH provisions originally developed as part of Amendment ll to the Groundfish FMP, which became effective on October 12, 1999 (64 FR 49092 September 10, 1999). Accordingly, the EIS will also evaluate alternatives to describe and identify EFH and to minimize to the extent practicable the adverse effects of fishing on EFH.

Scoping documents which identify the management issues, initial alternatives, and an outline of the proposed analysis will be made available at all scoping meetings.

Special Accommodations

These meetings are accessible to people with physical disabilities. Requests for sign language interpretation or other auxiliary aids should be directed to William L. Robinson 206--526-6140 (voice) or 206-526-6736 (fax), at least 5 days prior to the scheduled meeting date.

Authority: 16 U.S.C. 1801 et seq.

Dated: April 4, 2001.
Bruce C. Morehead,
Acting Director, Office of Sustainable Fisheries, National Marine Fisheries Service.

[FR Doc. 01-8815 Filed 4-9-01; 8:45 am]

BILLING CODE 3510-22-S